DEPARTMENT OF COMMERCE

[I.D. 110404H]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Billfish Certificate of Eligibility.

Form Number(s): None.

OMB Approval Number: 0648-0216.

Type of Request: Regular submission.

Burden Hours: 43.

Number of Respondents: 350.

Average Hours Per Response: 20 minutes for initial completion of certificate; and two minutes for subsequent billfish purchase recordkeeping.

Needs and Uses: Persons who are first receivers of billfish, except for billfish landed in a Pacific state and remaining in the state of landing, are required to complete a Certificate of Eligibility for Billfish as a condition for domestic trade of fresh or frozen billfish shipment. The dealers or processors who subsequently receive or possess billfish must retain a copy of the Certificate of Eligibility for Billfish while processing the billfish. The purpose of the requirement is to ensure the Atlantic billfish are retained as a recreational resource, and that any billfish entering the commercial trade have not been harvested from the Atlantic Ocean management unit.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 3, 2004.
Gwellnar Banks,
Management Analyst, Office of the Chief Information Officer.

[FR Doc. 04-25090 Filed 11-9-04; 8:45 am]

BILLING CODE 3510-22-S